ENVIRONMENTAL PROTECTION AGENCY

[ER-FRL-9019-7]

Environmental Impacts Statements; Notice of Availability

Responsible Agency: Office of Federal Activities, General Information (202) 564-1399 or http://www.epa.gov/compliance/nepa/

Weekly receipt of Environmental Impact Statements

Filed 02/16/2015 Through 02/20/2015

Pursuant to 40 CFR 1506.9.

Notice

Section 309(a) of the Clean Air Act requires that EPA make public its comments on EISs issued by other Federal agencies. EPA's comment letters on EISs are available at: http://www.epa.gov/compliance/nepa/eisdata.html.

EIS No. 20150041, Draft EIS, NPS, CA,Alcatraz Ferry Embarkation, Comment Period Ends: 05/20/2015, Contact: Samantha Pollak (415) 561-4700.

EIS No. 20150042, Final EIS, NPS, NV,Jimbilnan, Pinto Valley, Black Canyon, Eldorado, Ireteba Peaks, Nellis Wash, Spirit Mountain, and Bridge Canyon Wilderness Areas, Lake Mead Wilderness Management Plan, Review Period Ends: 04/03/2015, Contact: Greg Jarvis (303) 969-2263.

EIS No. 20150043, Final EIS, FERC, PR,Aguirre Offshore GasPort Project, Review Period Ends: 03/30/2015, Contact: Gertrude Johnson (202) 502-6692.

EIS No. 20150044, Draft EIS, USACE, CA,San Joaquin River Basin Project, Comment Period Ends: 04/13/2015, Contact: Tanis Toland (916) 557-6717.

EIS No. 20150045, Final Supplement, USDA, BLM, UT,Leasing and Underground Mining of the Greens Hollow Federal Coal Lease Tract UTU-102, Review Period Ends: 04/17/2015, Contact: Thomas Lloyd (USDA) (435) 636-3596 and Steve Rigby (BLM) (435) 636-3604.

The U.S. Department of the Interior's Bureau of Land Management and the U.S. Department of Agriculture's Forest Service are joint lead agencies for above project.

EIS No. 20150046, Final EIS, USFS, MT,East Deer Lodge Valley Landscape Restoration Management Project, Review Period Ends: 03/30/2015, Contact: Alex Dunn (406) 683-3864.

Amended Notices

EIS No. 20140300, Draft EIS, BLM, NV,Las Vegas and Pahrump Field Offices Draft Resource Management Plan, Comment Period Ends: 03/09/2015, Contact: Lee Kirk (702) 515-5026. Revision to FR Notice Published 10/10/2014; Extending Comment Period from 02/06/2015 to 03/09/2015.

Dated: February 24, 2015.
Cliff Rader,
Director, NEPA Compliance Division, Office of Federal Activities.

[FR Doc. 2015-04139 Filed 2-26-15; 8:45 am]

BILLING CODE 6560-50-P